DEPARTMENT OF AGRICULTURE

Forest Service

Notice of Meeting; Federal Lands Recreation Enhancement Act, (Title VIII, Pub. L. 108-447)

AGENCY: Pacific Southwest Region, Forest Service, U.S. Department of Agriculture.

ACTION: Notice of meeting.

SUMMARY: The Pacific Southwest Recreation Resource Advisory Committee (Recreation RAC) will hold a meeting in Vallejo, California. The purpose of this meeting is to make recommendations for fee proposals on lands managed by the Forest Service and Bureau of Land Management in California. The Recreation RRAC will consider fee proposals for expanded amenity fees from the Plumas National Forest and Special Recreation Permit fees from the Bureau of Land Management, El Centro Field Office. The Forest Service will also give updates on the recreational fee program, accomplishment reporting and financial reporting for the Sequoia National Forest.

DATES: The meeting will be held May 13, 2009 from 10 a.m.-3:15 p.m.

ADDRESSES: The meeting will be held at the Forest Service Pacific Southwest Regional Office. The address for the Regional office is 1323 Club Drive, Vallejo, CA. Send written comments to Marlene Finley, Designated Federal Official for the Pacific Southwest Region Recreation RAC, 1323 Club Drive, Vallejo, CA 94592, 707-562-8856 or mfinley01@fs.fed.us.

FOR FURTHER INFORMATION CONTACT: Marlene Finley, Designated Federal Official, Pacific Southwest Region Recreation RAC, 1323 Club Drive, Vallejo, CA 94592.

SUPPLEMENTARY INFORMATION: The meeting is open to the public. Committee discussion is limited to Forest Service and Bureau of Land Management staff and Committee members. However, persons who wish to bring recreation fee matters to the attention of the Committee may file written statements with the Committee staff before or after the meeting. A public input session will be provided during the meeting and individuals who wish to address the Recreation RAC will have an opportunity at 10:30 a.m. on May 13. Comments will be limited to three minutes per person. The Recreation RAC is authorized by the Federal Land Recreation Enhancement Act, which was signed into law by President Bush in December 2004.

Dated: April 17, 2009.
Marlene Finley,
Designated Federal Official, Recreation RAC, Pacific Southwest Region.

[FR Doc. E9-9323 Filed 4-23-09; 8:45 am]

BILLING CODE 3410-11-M